DEPARTMENT OF THE INTERIOR

National Park Service

Committee for the Preservation of the White House; Notice of Public Meeting

AGENCY: Department of the Interior, National Park Service.

ACTION: Notice of meeting.

SUMMARY: Notice is hereby given in accordance with the Federal Advisory Committee Act that a meeting of the Committee for the Preservation of the White House will be held at the White House at 2 p.m. on Thursday, October 16, 2008.

DATES: October 16, 2008.

FOR FURTHER INFORMATION CONTACT: Executive Secretary, Committee for the Preservation of the White House, 1100 Ohio Drive, SW., Washington, DC 20242. (202) 619-6344.

SUPPLEMENTARY INFORMATION: It is expected that the meeting agenda will include policies, goals, and long-range plans. The meeting will be open, but subject to appointment and security clearance requirements. Clearance information, which includes full name, date of birth and Social Security number, must be received by October 9, 2008. Due to the present mail delays being experienced, clearance information should be faxed to (202) 619-6353 in order to assure receipt by deadline. Inquiries may be made by calling the Committee for the Preservation of the White House between 9 a.m. and 4 p.m. weekdays at (202) 619-6344. Written comments may be sent to the Executive Secretary, Committee for the Preservation of the White House, 1100 Ohio Drive, SW., Washington, DC 20242.

Dated: September 5, 2008.
Ann Bowman Smith,
Executive Secretary, Committee for the Preservation of the White House.

[FR Doc. E8-21664 Filed 9-16-08; 8:45 am]

BILLING CODE 4312-51-P